Proclamation 10461 of September 30, 2022

National Domestic Violence Awareness and Prevention Month, 2022

By the President of the United States of America

A Proclamation

While our Nation has made significant progress in addressing domestic violence by responding to the stories and leadership of courageous survivors, as well as through advocacy and legislative action, domestic violence nonetheless remains all too common in America. During National Domestic Violence Awareness and Prevention Month, we continue to shine a light on the causes of this scourge, strengthen the ability of Federal, State, Tribal, territorial, and local officials to take action, and call on all communities to strengthen prevention efforts. My Administration is working to ensure that all survivors have access to justice and the support they need for their healing and well-being.

When I introduced the Violence Against Women Act (VAWA) in the Senate in 1990 with the support of many members of the Congress and community advocates, we began to bring these cases of abuse out of the shadows. For too long, few in this country were willing to call domestic violence a national epidemic. VAWA increased survivors' access to services and support, empowered Federal law enforcement to hold perpetrators accountable, and enhanced the enforcement of protection orders across State lines. In March of this year, I was proud to sign the VAWA Reauthorization Act of 2022 into law, which extends all current VAWA grant programs until 2027 and increases services and support for all survivors, including by strengthening access to services for survivors from underserved or marginalized communities. It also enhances evidence-based, trauma-informed trainings for law enforcement officers involved in assisting victims and investigating these crimes.

While we know that VAWA is making a significant difference, we also know that much work still remains. Millions of women and men are impacted by some form of intimate partner abuse each year. Domestic violence can cause injury, fear, post-traumatic stress disorder, housing insecurity, missed school or work, and other devastating consequences. Historically underserved populations, including LGBTQI+ survivors, persons with disabilities, immigrants, racial and ethnic minorities, and American Indians, Alaska Natives, and Native Hawaiians face some of the highest rates of domestic and sexual violence, along with additional barriers to safety and support. The effects of this epidemic stretch well beyond the home, impacting extended families, schools, and the workplace.

Over the past three decades, I have continued this commitment to preventing and addressing domestic violence and all forms of gender-based violence. To strengthen our support for victims during the pandemic, when we saw a rise in domestic violence as survivors experienced increased isolation, economic insecurity, and barriers to accessing help, my Administration increased funding for shelters and supportive service providers and offered targeted resources to culturally-specific, community-based organizations that address the needs of survivors in marginalized communities. In total, we have invested nearly $1 billion in supplemental funding from our American Rescue Plan to bolster these programs.

I also created the White House Gender Policy Council and called for the development of the first-ever Government-wide National Action Plan to End Gender-Based Violence, as well as updates to the 2016 United States Strategy to Prevent and Respond to Gender-Based Violence Globally. These strategies will provide a roadmap to guide my Administration's whole-of-government effort to end domestic violence, sexual assault, and other forms of gender-based violence.

My efforts did not stop there. Last year, I signed the National Defense Authorization Act to fundamentally shift how the military investigates and prosecutes domestic violence, sexual assault, and related crimes. I also issued an Executive Order to implement important reforms to the military code. We owe it to those who bravely wear our Nation's uniform to improve support for survivors and expand prevention of all forms of gender-based violence.

In July, I signed the Safer Communities Act and provided significant resources for States to implement extreme risk protection order laws and also expanded measures to prevent abusers convicted of assaulting their current or former dating partners from buying or owning guns. Millions of women across America report being threatened with a gun by an intimate partner, and evidence suggests that when a gun is present, the risk of death from domestic violence is five times greater. Additionally, because cyberstalking, sextortion, and other forms of intimate partner violence involving technology are becoming increasingly common, we established a new White House Task Force to Address Online Harassment and Abuse and expanded efforts to prevent and address these harms.

As we continue the essential work of ending domestic violence, we can all help build a culture where abuse is not tolerated and where survivors are heard, supported, and protected. We can express our gratitude to the remarkable people and organizations that offer care and critical services to survivors of domestic violence, and we must remain committed to building a better world where all people can feel safe and respected and live free from abuse.

NOW, THEREFORE, I, JOSEPH R. BIDEN JR., President of the United States of America, by virtue of the authority vested in me by the Constitution and the laws of the United States, do hereby proclaim October 2022 as National Domestic Violence Awareness and Prevention Month. I call on all Americans to speak out against domestic violence and support efforts to educate all people about healthy relationships centered on respect; support victims and survivors in your own families and networks; and support the efforts of victim advocates, service providers, health care providers, and the legal system, as well as the leadership of survivors, in working to end domestic violence.

IN WITNESS WHEREOF, I have hereunto set my hand this thirtieth day of September, in the year of our Lord two thousand twenty-two, and of the Independence of the United States of America the two hundred and forty-seventh.

[FR Doc. 2022-21786

Filed 10-4-22; 8:45 am]

Billing code 3395-F3-P